DEPARTMENT OF ENERGY

Federal Energy Regulatory Commission

[Project No. 2203-007 Alabama]

Alabama Power Company; Notice of Availability of Environmental Assessment

August 29, 2000.

An environmental assessment (EA) is available for public review. The EA analyzes the environmental effects of Alabama Power Company's request to amend the license to replace the turbine runner at the Holt Project, located on the Black Warrior River, in Tuscaloosa County, Alabama. The turbine runner replacement would increase the generating and hydraulic capacities of the project.

The EA was written by Staff in the Office of Energy Projects, Federal Energy Regulatory Commission. The proposed upgrade would not constitute major federal action significantly affecting the quality of the human environment. copies of the EA can be viewed on the web at www.ferc.fed.us/online/rims.htm. Call (202) 208-2222 for assistance. Copies are also available for inspection and reproduction at the Commission's Public Reference Room located at 888 First Street, NE., Room 2A, Washington, DC 20426, or by calling (202) 208-1371.

Anyone may file comments on the EA. The public, federal and state resource agencies are encouraged to provide comments. All written comments must be filed within 30 days of the issuance date of this notice shown above. Send an original and eight copies of all comments marked with the project number P-2203-007 to: The Secretary, Federal Energy Regulatory Commission, 888 First Street, NE., Washington, DC 20426. If you have any questions regarding this notice, please contact Steve Kartalia at telephone: (202) 219-2942 or e-mail: stephen.kartalia@ferc. fed.us

Linwood A. Watson, Jr.,
Acting Secretary.

[FR Doc. 00-22588 Filed 9-1-00; 8:45 am]

BILLING CODE 6717-01-M